DEPARTMENT OF THE INTERIOR

Bureau of Land Management

[LLCON04000 L16100000.DT0000-16X]

Notice of Availability of the Proposed Resource Management Plan Amendment and Final Supplemental Environmental Impact Statement for the Roan Plateau Planning Area, Colorado

AGENCY: Bureau of Land Management, Interior.

ACTION: Notice of availability.

SUMMARY: In accordance with the National Environmental Policy Act (NEPA) of 1969, as amended, and the Federal Land Policy and Management Act of 1976, as amended, the Bureau of Land Management (BLM) has prepared a Proposed Resource Management Plan (RMP) Amendment and Final Supplemental Environmental Impact Statement (EIS) for the Roan Plateau planning area and by this notice announces its availability.

DATES: BLM planning regulations state that any person who meets the conditions identified in the regulations may protest the BLM's Proposed RMP Amendment/Final Supplemental EIS. A person who meets the conditions and files a protest must file the protest within 30 days of the date that the Environmental Protection Agency publishes its Notice of Availability in the Federal Register.

ADDRESSES: Copies of the Roan Plateau Proposed RMP Amendment/Final Supplemental EIS have been sent to affected Federal, State and local government agencies and to other stakeholders. Copies of the Proposed RMP Amendment/Final Supplemental EIS are also available for public inspection at the Colorado River Valley Field Office, 2300 River Frontage Road, Silt, CO 81652. Interested persons may also review the Proposed RMP Amendment/Final Supplemental EIS on the Internet at www.blm.gov/co/st/en/BLM_Programs/land_use_planning/rmp/roan_plateau.html.

All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Greg Larson, Project Manager; telephone (970) 876-9048; see Colorado River Valley Field Office address above; email glarson@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The BLM prepared the Roan Plateau Proposed RMP Amendment/Final Supplemental EIS to evaluate a range of management decisions for resources, resource uses, and special designations in the planning area. The Proposed RMP/Final Supplemental EIS also responds to a June 22, 2012, ruling by the United States District Court for the District of Colorado remanding the 2007 Roan Plateau Record of Decision. The Court set aside the 2007 Roan Plateau RMP Amendment and remanded the matter to the BLM for further action in accordance with the Court's decision. In particular, the Court found that the Final EIS was deficient insofar as it failed to adequately address the: (i) “Community Alternative” that various local governments, environmental organizations and individual members of the public recommended during the planning process leading up to the 2007 plan amendment; (ii) Cumulative air-quality impacts of the RMP Amendment decision in conjunction with anticipated oil and gas development on private lands outside the Roan Plateau planning area; and (iii) Issue of potential ozone impacts from proposed oil and gas development. Based on the Court's ruling and new information available since the BLM developed the Final EIS, the BLM determined that a new RMP Amendment and supplemental analysis under NEPA were warranted. The parties involved in the litigation regarding the 2007 plan amendment reached a settlement in November 2014. Based on that agreement, the Roan Plateau Proposed RMP Amendment/Final Supplemental EIS includes an alternative that was identified in the November 2014 settlement. That “Settlement Alternative” was identified as the Proposed Alternative in the Draft Supplemental EIS.

The planning area, which is in west-central Colorado, includes approximately 73,602 acres of BLM-managed land (Federal surface, Federal mineral estate, or both). It is located primarily in Garfield County with a small portion in southern Rio Blanco County. The Roan Plateau RMP Amendment proposes to amend the management decisions in the Glenwood Springs and White River RMPs as they relate to the planning area.

The Roan Plateau RMP Amendment process began originally with scoping in 2000. The BLM published the Draft EIS in November 2004 and the Final EIS in August 2006. The BLM then issued two Records of Decision, one in June 2007 and a second, pertaining to Areas of Critical Environmental Concern, in March 2008. Following the District Court ruling in 2012, the BLM published a Notice of Intent to develop the Draft RMP Amendment/Supplemental EIS on January 28, 2013 (78 FR 5834), which initiated a second scoping period. The Draft RMP Amendment/Supplemental EIS was published on November 20, 2015 (80 FR 72732), and made available for public comment. The BLM held three public meetings to discuss the Draft RMP Amendment/Supplemental EIS and received approximately 50,000 comment submissions during the comment period. The BLM carefully considered those comments. The BLM made changes to the Proposed RMP Amendment/Final Supplemental EIS in response to comments received from the public and cooperating agencies, United States Fish and Wildlife Service consultation, and extensive internal BLM reviews. These changes included the addition of clarifying text and updated information, however, none of the changes constituted a substantial change in the proposed land use plan decisions or the analysis in the Draft Supplemental EIS that would require additional supplementation.

Major issues considered in the Proposed RMP Amendment/Final Supplemental EIS include fluid minerals management; social and economic impacts; riparian habitat management; recreation; and air, water, and ecological resources. The RMP also addresses decisions regarding Wild and Scenic Rivers, Areas of Critical Environmental Concern, and lands with wilderness characteristics. Decisions related to Greater Sage-Grouse management in the proposed Amendment are consistent with last year's Northwestern Colorado Greater Sage-Grouse Resource Management Plan Amendment Record of Decision.

The Proposed RMP Amendment/Final Supplemental EIS focuses on evaluating new information and new issues raised since the BLM developed the 2006 Roan Plateau Final EIS. This includes an evaluation of four alternatives including the No Action Alternative (Alternative I). Alternative II is based on the Proposed Plan from the 2006 Roan RMP Amendment/Final EIS and includes updated decisions and analysis based on new information and issues raised during the scoping period for the Supplemental EIS. Alternative III is based on the “Community Alternative” raised during the original EIS process by Rock the Earth. Alternative III was augmented with input from other Supplemental EIS scoping comments. This alternative allows oil and gas leasing throughout the planning area, but limits surface disturbance on BLM lands above the rim. Wilderness characteristics would be managed for protection in this alternative, and all eligible river segments in the planning area would be determined to be suitable for designation as Wild and Scenic Rivers. Alternative III also analyzes two proposed sub-alternatives for target shooting restrictions in an open Off-Highway Vehicle area. Alternative IV is the BLM's Proposed Alternative and is based on the terms of the 2014 Settlement Agreement. This alternative would allow for leasing at the base of the plateau (11,170 acres) and within several retained lease areas on the top of the plateau (1,830 acres). Other resource management decisions in this alternative would be similar to Alternative II.

Instructions for filing a protest with the Director of the BLM regarding the Proposed RMP Amendment/Final Supplemental EIS may be found in the “Dear Reader” Letter of the Roan Plateau Proposed RMP Amendment/Final Supplemental EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy, and it will receive full consideration. If you wish to provide the BLM with such advance notification, please direct emails to protest@blm.gov.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Ruth Welch,
BLM Colorado State Director.

[FR Doc. 2016-15527 Filed 6-30-16; 8:45 am]

BILLING CODE 4310-JB-P